DEPARTMENT OF HEALTH AND HUMAN SERVICES

Centers for Medicare & Medicaid Services

[CMS-1383-N2]

Medicare Program; Listening Session on the Draft Plan for Medicare Hospital Value-Based Purchasing—April 12, 2007

AGENCY: Centers for Medicare & Medicaid Services (CMS), HHS.

ACTION: Notice of meeting.

SUMMARY: This notice announces the second Listening Session being conducted as part of the development of a plan for Medicare hospital value-based purchasing, as authorized by section 5001(b) of the Deficit Reduction Act of 2005 (Pub. L. 109-171) (DRA). The purpose of the second Listening Session is to solicit comments on the Draft Plan that has been developed. Hospitals, hospital associations, and all interested parties are invited to attend and make comments in person. The perspectives expressed during this session and in writing will assist us in making revisions to the Draft Plan to create the final Medicare Hospital Value-Based Purchasing Plan to be completed by June 2007. The Draft Plan will be posted no later than March 22, 2007 on the CMS Web site, Hospital Center, under Spotlights at http://www.cms.hhs.gov/center/hospital.asp.

DATES:

Meeting Date: The listening session will be held on Thursday, April 12, 2007 from 10 a.m. until 5 p.m. e.d.t.

Registration and Request for Special Accommodations Deadline: Registration will open February 26, 2007. For security reasons, registration must be completed no later than 5 p.m. e.d.t. on Thursday, April 9, 2007. Requests for special accommodations must be received by 5 p.m. e.d.t. on Thursday, April 9, 2007. See Section III. below for detailed instructions.

Deadline for Submission of Written Comments or Statements: Written comments on the Draft Plan may be sent by mail, fax, or electronically and must be received by 5 p.m. e.d.t. on April 19, 2007.

ADDRESSES:

Meeting Location: The Listening Session will be held in the main auditorium of the central building of the Centers for Medicare and Medicaid Services, 7500 Security Boulevard, Baltimore, MD 21244-1850.

Registration and Special Accommodations: Persons interested in attending the meeting or listening by teleconference must register by completing the on-line registration located at http://registration.mshow.com/cms2/. Individuals who need special accommodations should contact Robin Phillips at (410) 786-3010, by e-mail to robin.phillips@cms.hhs.gov, or by regular mail to Mail Stop C4-13-07 Centers for Medicare & Medicaid Services, 7500 Security Boulevard, Baltimore, MD 21244-1850.

Written Comments or Statements: Written comments on the Draft Plan may be mailed to Mail Stop C4-13-07 Centers for Medicare and Medicaid Services, 7500 Security Boulevard, Baltimore, MD 21244; e-mail to cmshospitalVBP@cms.hhs.gov or fax to 410-786-0330.

FOR FURTHER INFORMATION CONTACT: Robin Phillips, 410-786-3010 in the Medicare Feedback Group. You may also send inquires about this meeting via e-mail to robin.phillips@cms.hhs.gov.

SUPPLEMENTARY INFORMATION:

I. Background

Section 5001(b) of the Deficit Reduction Act of 2005 (Pub. L. 109-171) (DRA) specifies that we develop a plan to implement a Value-Based Purchasing (VBP) Program for payments under the Medicare program for subsection (d) hospitals (as defined in section 1886(d)(1)(B) of the Social Security Act) beginning with FY 2009. The Congress specified that the “plan” include consideration of the following issues:

• The ongoing development, selection, and modification process for measures of quality and efficiency in hospital inpatient settings.

• The reporting, collection, and validation of quality data.

• The structure of value-based payment adjustments, including the determination of thresholds or improvements in quality that would substantiate a payment adjustment, the size of such payments, and the sources of funding for the value-based payments.

• The disclosure of information on hospital performance.

In developing the plan, we must consult with relevant affected parties and consider experience with demonstrations that are relevant to the VBP program. We have created an internal Hospital Pay-for-Performance Workgroup that is charged with developing the VBP Plan for Medicare hospital services. This Workgroup is organized into four subgroups to address each of the required planning issues: (1) Measures; (2) data collection and validation; (3) incentive structure; and (4) public reporting. It is also charged with preparing a set of design options, narrowing the set of design options to prepare a draft plan, and preparing a report on the plan for implementing VBP for Medicare hospital services, which will be provided to the Congress as required under section 5001(b)(3) of the DRA.

In the November 24, 2006 Federal Register, we announced that we would have a listening session to consider design questions posed in the Issues Paper that we posted on our Web site http://www.cms.hhs.gov. This listening session was held on January 17, 2007.

II. Listening Session Format and Agenda

The second listening session will be held on April 12, 2007 to consider the Draft Plan. This listening session will begin at 10 a.m. with an overview of the objectives for the session and a brief summary of the approach to developing the Draft Plan. Beginning at approximately 10:30 a.m., the remainder of the meeting will be devoted to addressing each section of the Plan. The agenda will provide opportunities for brief 2-minute comments from on-site session attendees. As time allows, telephone participants will also have the opportunity to provide brief 2-minute comments. A lunch break will occur from approximately 12:30 p.m. to 1:30 p.m. The meeting will conclude by 5 p.m. with brief comments on “next steps.”

III. Registration Instructions

Persons interested in attending the meeting or listening by teleconference must register by completing the on-line registration located at http://registration.mshow.com/cms2/. The on-line registration system will generate a confirmation page to indicate the completion of your registration. Please print this page as your registration receipt.

Individuals may also participate in the listening session by teleconference. Registration is required. The call-in number will be provided upon confirmation of registration.

An audio download of the listening session will be available through the CMS Hospital Center Web site within 72 hours after completion of the listening session.

IV. Security, Building, and Parking Guidelines

Because this meeting will be located on Federal property, for security reasons, any persons wishing to attend this meeting must register by close of business on April 9, 2007. Individuals who have not registered in advance will not be allowed to enter the building to attend the meeting. Seating capacity is limited to the first 550 registrants.

The on-site check-in for visitors will begin at 9:15 a.m. Please allow sufficient time to go through the security checkpoints at both the entrance to the grounds and the entrance to the building. It is suggested that you arrive at central building by 9 a.m. so that you will have enough time to check-in before the session begins.

Security measures will include inspection of vehicles, inside and out, at the entrance to the grounds. In addition, all persons entering the building must check in by name with Security, provide a government-issued ID, and pass through a metal detector. All items brought to the building, whether personal or for the purpose of demonstration or to support a presentation, including items such as laptops, cell phones, and palm pilots, are subject to physical inspection.

Authority: Section 5001(b) The Deficit Reduction Act (DRA) of 2005.

Dated: February 15, 2007.
Leslie V. Norwalk,
Acting Administrator, Centers for Medicare & Medicaid Services.

[FR Doc. E7-3048 Filed 2-22-07; 8:45 am]

BILLING CODE 4120-01-P